SMALL BUSINESS ADMINISTRATION

National Small Business Development Center Advisory Board Public Meeting

The U.S. Small Business Administration (SBA), National Small Business Development Center (SBDC) Advisory Board will hold a public annual spring meeting on Monday, March 5, 2007, starting at 11 a.m. until 4 p.m. (EST). The meeting will take place at the SBA Office of Entrepreneurial Development Conference Room, 409 Third Street, SW., 6th Floor, Washington, DC 20416.

The purpose of the meeting is to meet and welcome new board members; and to facilitate board briefings with the SBA Administrator, Senior staff, and SBA program offices. Anyone wishing to attend must contact Erika Fischer, Senior Program Analyst, U.S. Small Business Administration, Office of Small Business Development Centers, 409 3rd Street, SW., Washington, DC 20416, telephone (202) 205-7045 or fax (202) 481-0681.

Matthew Teague,
Committee Management Officer.

[FR Doc. E7-1257 Filed 1-25-07; 8:45 am]

BILLING CODE 8025-01-P